DEPARTMENT OF ENERGY

10 CFR Part 431

[EERE-2017-BT-TP-0053]

Energy Conservation Program: Test Procedure for Metal Halide Lamp Fixtures

AGENCY: Office of Energy Efficiency and Renewable Energy, Department of Energy.

ACTION: Request for information (RFI).

SUMMARY: The U.S. Department of Energy (DOE) is initiating a data collection process through this request for information to consider whether to amend DOE's test procedure for metal halide lamp fixtures (MHLFs). To inform interested parties and to facilitate this process, DOE has gathered data and identified several issues associated with the currently applicable test procedure on which DOE is interested in receiving comment. The issues outlined in this document mainly concern updates to industry standards and potential clarifications to the existing test procedure for MHLFs. DOE welcomes written comments from the public on any subject within the scope of this document, including topics not directly outlined in this RFI. DOE also welcomes comments on any additional topics that may inform DOE's decisions in a potential future test procedure rulemaking, such as methods to reduce regulatory burden while ensuring the procedure's accuracy.

DATES: Written comments and information are requested and will be accepted on or before June 29, 2018.

ADDRESSES: Interested persons are encouraged to submit comments using the Federal eRulemaking Portal at http://www.regulations.gov. Follow the instructions for submitting comments. Alternatively, interested persons may submit comments, identified by docket number EERE-2017-BT-TP-0053, by any of the following methods:

1. Federal eRulemaking Portal: http://www.regulations.gov. Follow the instructions for submitting comments.

2. Email: to MHLF2017TP0053@ee.doe.gov. Include docket number EERE-2017-BT-TP-0053 in the subject line of the message.

3. Postal Mail: Appliance and Equipment Standards Program, U.S. Department of Energy, Building Technologies Office, Mailstop EE-5B, 1000 Independence Avenue SW, Washington, DC 20585-0121. Telephone: (202) 287-1445. If possible, please submit all items on a compact disc (CD), in which case it is not necessary to include printed copies.

4. Hand Delivery/Courier: Appliance and Equipment Standards Program, U.S. Department of Energy, Building Technologies Office, 950 L'Enfant Plaza SW, Suite 600, Washington, DC 20024. Telephone: (202) 287-1445. If possible, please submit all items on a CD, in which case it is not necessary to include printed copies.

No telefacsimilies (faxes) will be accepted. For detailed instructions on submitting comments and additional information on this process, see section 0 of this document.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at http://www.regulations.gov. The docket web page will contain simple instructions on how to access all documents, including public comments, in the docket. See section 0 for information on how to submit comments through http://www.regulations.gov.

FOR FURTHER INFORMATION CONTACT: Ms. Lucy deButts, U.S. Department of Energy, Office of Energy Efficiency and Renewable Energy, Building Technologies Office, EE-5B, 1000 Independence Avenue SW, Washington, DC 20585-0121. Telephone: (202) 287-1604. Email: ApplianceStandardsQuestions@ee.doe.gov.

Ms. Jennifer Tiedeman, U.S. Department of Energy, Office of the General Counsel, GC-33, 1000 Independence Avenue SW, Washington, DC 20585-0121. Telephone: (202) 287-6111. Email: Jennifer.Tiedeman@Hq.Doe.Gov.

For further information on how to submit a comment or review other public comments and the docket, contact the Appliance and Equipment Standards Program staff at (202) 287-1445 or by email: ApplianceStandardsQuestions@ee.doe.gov.

SUPPLEMENTARY INFORMATION:

Table of Contents

I. Introduction

A. Authority and Background

B. Rulemaking History

II. Request for Information

A. Scope & Definitions

B. Test Procedure

1. Updates to Industry Standards

2. Other Updates to the Federal Test Procedure

C. Other Test Procedure Topics

III. Submission of Comments

I. Introduction

MHLFs are included in the list of “covered products” for which DOE is authorized to establish and amend energy conservation standards and test procedures. (42 U.S.C. 6292(a)(19)) DOE's test procedures for MHLFs are prescribed at 10 CFR 431.324. The following sections discuss DOE's authority to establish and amend test procedures for MHLFs, as well as relevant background information regarding DOE's consideration of test procedures for MHLFs.

A. Authority and Background

The Energy Policy and Conservation Act of 1975 (“EPCA” or “the Act”),¹ Public Law 94-163 (42 U.S.C. 6291-6317, as codified), among other things, authorizes DOE to regulate the energy efficiency of a number of consumer products and industrial equipment. Title III, Part B ² of EPCA established the Energy Conservation Program for Consumer Products Other Than Automobiles, which sets forth a variety of provisions designed to improve energy efficiency. These products include MHLFs, the subject of this RFI.³ (42 U.S.C. 6292(a)(19))

¹ All references to EPCA in this document refer to the statute as amended through the Energy Efficiency Improvement Act of 2015 (EEIA 2015), Public Law 114-11 (April 30, 2015).

² For editorial reasons, upon codification in the U.S. Code, Part B was redesignated Part A.

³ Because of the inclusion of MHLFs in the list of covered products under 42 U.S.C. 6292, the rulemaking for MHLFs is bound by the requirements of Part A of Title III of EPCA. However, because MHLFs are generally considered commercial equipment, as a matter of administrative convenience and to minimize confusion among interested parties, DOE adopted MHLF provisions into subpart S of 10 CFR part 431. 74 FR 12058, 12062 (March 23, 2009). Therefore, DOE will refer to MHLFs as “equipment” throughout this document. Where the notice refers to specific provisions in Part A of EPCA, the term “product” is used. The location of provisions within the CFR does not affect either their substance or applicable procedure.

Under EPCA, DOE's energy conservation program consists essentially of four parts: (1) Testing, (2) labeling, (3) Federal energy conservation standards, and (4) certification and enforcement procedures. Relevant provisions of the Act include definitions (42 U.S.C. 6291), energy conservation standards (42 U.S.C. 6295), test procedures (42 U.S.C. 6293), labeling provisions (42 U.S.C. 6294), and the authority to require information and reports from manufacturers (42 U.S.C. 6296).

Federal energy efficiency requirements for covered products established under EPCA generally supersede State laws and regulations concerning energy conservation testing, labeling, and standards. (42 U.S.C. 6297) DOE may, however, grant waivers of Federal preemption for particular State laws or regulations, in accordance with the procedures and other provisions of EPCA. (42 U.S.C. 6297(d))

The Federal testing requirements consist of test procedures that manufacturers of covered products must use as the basis for: (1) Certifying to DOE that their products comply with the applicable energy conservation standards adopted pursuant to EPCA (42 U.S.C. 6295(s)), and (2) making representations about the efficiency of those consumer products (42 U.S.C. 6293(c)). Similarly, DOE must use these test procedures to determine whether the products comply with relevant standards promulgated under EPCA. (42 U.S.C. 6295(s))

Under 42 U.S.C. 6293, EPCA sets forth the criteria and procedures DOE must follow when prescribing or amending test procedures for covered products. EPCA requires that any test procedures prescribed or amended under this section be reasonably designed to produce test results which measure energy efficiency, energy use or estimated annual operating cost of a covered product during a representative average use cycle or period of use and not be unduly burdensome to conduct. (42 U.S.C. 6293(b)(3))

In addition, if DOE determines that a test procedure amendment is warranted, it must publish proposed test procedures and offer the public an opportunity to present oral and written comments on them. (42 U.S.C. 6293(b)(2))

EPCA also requires that, at least once every 7 years, DOE evaluate test procedures for each type of covered product, including MHLFs, to determine whether amended test procedures would more accurately or fully comply with the requirements for the test procedures to not be unduly burdensome to conduct and be reasonably designed to produce test results that reflect energy efficiency, energy use, and estimated operating costs during a representative average use cycle or period of use. (42 U.S.C. 6293(b)(1)(A)) If the Secretary determines, on his own behalf or in response to a petition by any interested person, that a test procedure should be prescribed or amended, the Secretary shall promptly publish in the Federal Register proposed test procedures and afford interested persons an opportunity to present oral and written data, views, and arguments with respect to such procedures. The comment period on a proposed rule to amend a test procedure shall be at least 60 days and may not exceed 270 days. In prescribing or amending a test procedure, the Secretary shall take into account such information as the Secretary determines relevant to such procedure, including technological developments relating to energy use or energy efficiency of the type (or class) of covered products involved. (42 U.S.C. 6293(b)(2)) If DOE determines that test procedure revisions are not appropriate, DOE must publish its determination not to amend the test procedures. DOE is publishing this RFI to collect data and information to inform its decision in satisfaction of the 7-year review requirement specified in EPCA. (42 U.S.C. 6293(b)(1)(A))

B. Rulemaking History

In addition to the test procedure review provision discussed above, EPCA requires DOE to establish test procedures for metal halide lamp ballasts based on the industry standard ANSI C82.6-2005 “Ballasts for High-Intensity Discharge Lamps—Method of Measurement.” (42 U.S.C. 6293(b)(18)) EPCA also requires that energy conservation standards and test procedures address standby mode and off mode energy use. (42 U.S.C. 6295(gg)) On March 9, 2010, DOE published a final rule establishing active mode and standby mode test procedures for MHLFs based on measuring ballast efficiency in accordance with ANSI C82.6-2005 (2010 MHLF TP final rule). 75 FR 10950. DOE determined that per EPCA's definition of “off mode,” it is not possible for MHLFs to meet off mode criteria because there is no condition in which the components of an MHLF are connected to the main power source and are not already in a mode accounted for in either active or standby mode. 75 FR 10954-10955 (March 9, 2010).

In a 2014 MHLF energy conservation standards final rule, DOE amended the test procedure to specify the input voltage at which a ballast is to be tested, and to require measuring and calculating ballast efficiency to three significant figures. 79 FR 7746, 7757-7759 (February 10, 2014). DOE's current test procedure for MHLFs for active mode and standby mode operation appears at 10 CFR 431.324 (“Uniform test method for the measurement of energy efficiency and standby mode energy consumption of metal halide lamp ballasts”). Although MHLFs are the equipment at issue in this RFI, the test procedure requires measurement of metal halide ballast efficiency.

II. Request for Information

In the following sections, DOE has identified a variety of issues on which it seeks input to aid in the development of the technical and economic analyses regarding whether an amended test procedure for MHLFs may be warranted. Specifically, DOE is requesting comment on any opportunities to streamline and simplify testing requirements for MHLFs.

Additionally, DOE welcomes comments on other issues relevant to the conduct of this process that may not specifically be identified in this document. In particular, DOE notes that under Executive Order 13771, “Reducing Regulation and Controlling Regulatory Costs,” Executive Branch agencies such as DOE are directed to manage the costs associated with the imposition of expenditures required to comply with Federal regulations. See 82 FR 9339 (February 3, 2017). Pursuant to that Executive Order, DOE encourages the public to provide input on measures DOE could take to lower the cost of its regulations applicable to testing MHLFs consistent with the requirements of EPCA.

A. Scope & Definitions

As stated previously, although MHLFs are the covered product, the Federal test procedure requires measurement of metal halide ballast efficiency. EPCA and DOE define a MHLF as a light fixture for general lighting application designed to be operated with a metal halide lamp and a ballast for a metal halide lamp. (42 U.S.C. 6291(64) and 10 CFR 431.322). Metal halide ballast is defined as a ballast used to start and operate metal halide lamps. (42 U.S.C. 6291(62) and 10 CFR 431.322). DOE defines metal halide lamp as a high intensity discharge (HID) lamp in which the major portion of the light is produced by radiation of metal halides and their products of dissociation, possibly in combination with metallic vapors. (42 U.S.C. 6291(63) and 10 CFR 431.322).

B. Test Procedure

The current test procedure for MHLFs appears at 10 CFR 431.324. As noted previously, the test procedure for MHLFs incorporates by reference the 2005 version of ANSI C82.6 (ANSI C82.6-2005). ANSI C82.6 outlines procedures for measuring the performance of low-frequency ballasts, including metal halide ballasts, designed to operate HID lamps. Testing requires the use of a reference lamp, which is to be operated by the ballast under test conditions until the ballast reaches operational stability. Ballast efficiency is then calculated as the measured ballast output power divided by the ballast input power.

Issue A.1 DOE requests information on the availability of reference lamps.

1. Updates to Industry Standards

In 2015, ANSI published a revised version of C82.6, “Ballasts for High-Intensity Discharge Lamps—Methods of Measurement,” (ANSI C82.6-2015).⁴ DOE's initial review indicates that revisions mainly pertain to the addition of testing specifications particular to low-frequency electronic ballasts, including modifications to the alternative stabilization method, the addition of low-frequency square wave reference ballast characteristics, and further detail pertaining to ballast measurements.

⁴ Approved February 20, 2015.

Issue A.2 DOE requests comment on the potential impact of incorporating by reference the updated industry standard ANSI C82.6-2015 in the Federal test procedure. Specifically, DOE requests information on any potential differences in testing under the 2015 version, as compared to the 2005 version currently incorporated by reference.

DOE also has found that the industry standard referenced in its definition of “ballast efficiency” has been updated. Per DOE regulations, “ballast efficiency,” or the efficiency of a lamp and ballast combination, is the measured operating lamp wattage (i.e., output power) divided by the measured operating input wattage (i.e., input power), expressed as a percentage. 10 CFR 431.322. The input and output power of the ballast must be measured while the ballast is operating a reference lamp. The 2004 version of ANSI C78.43 (ANSI C78.43-2004) is incorporated by reference in DOE's regulations to describe the requirements for various fixture components used when measuring ballast efficiency.⁵ See 10 CFR 431.323. Specifically, the definition of “ballast efficiency” states that the lamp and capacitor (when provided) must constitute a nominal system in accordance with ANSI C78.43-2004. However, ANSI C78.43-2004 does not define the term “nominal system.” ANSI C78.43-2004 does contain the physical and electrical requirements that single-ended metal halide lamps operated on 60 hertz (Hz) ballasts must meet to qualify as reference lamps. ANSI C78.43 was updated in 2013 (ANSI C78.43-2013) to incorporate datasheets for additional lamp types, which, if adopted, would provide characteristics to increase the number of potential reference lamps for testing.⁶

⁵ American National Standards Institute. American National Standard for electric lamps—Single-Ended Metal Halide Lamps. Approved May 5, 2004.

⁶ American National Standards Institute. American National Standard for electric lamps—Single-Ended Metal Halide Lamps. Approved April 3, 2013.

Issue A.3 DOE requests comment on the potential impact of incorporating by reference the updated industry standard ANSI C78.43-2013 in the definition of “ballast efficiency.” DOE also requests comment on whether the term “nominal system” in the definition of “ballast efficiency” requires further clarification.

2. Other Updates to the Federal Test Procedure

a. MHLFs Containing Ballasts That May Operate More Than One Lamp Wattage

Based on a recent survey of the market, DOE identified metal halide lamp fixtures that contain ballasts that may be able to operate lamps of more than one wattage (e.g., a ballast that can operate a 70W lamp or a 100W lamp). The definition of basic model for MHLFs states that basic models are rated to operate a given lamp type and wattage. 10 CFR 431.322. Thus, the current regulations indicate that such a model falls within multiple basic models. DOE is interested in information regarding how this equipment should be tested.

Issue A.4 DOE requests information on the prevalence of metal halide ballasts capable of operating more than one lamp wattage and how this equipment should be tested.

b. Dimming Ballasts

DOE established an active mode test method in the 2010 MHLF TP final rule, which incorporated relevant sections of ANSI C82.6-2005 to measure ballast efficiency as required by EPCA. (42 U.S.C. 6293(b)(18)); 75 FR 10950 (March 9, 2010). DOE also clarified in the 2010 MHLF TP final rule that active mode applies to a functioning ballast operating with any amount of system light output (i.e., greater than zero percent), and noted that if a ballast is dimmed (i.e., operating the light source at more than zero percent, but less than 100 percent), the lamp and the ballast are both still in active mode. 75 FR 10953 (March 9, 2010). DOE notes that in the case of dimming ballasts, where input power can vary, a specification regarding how to test these ballasts is necessary. Thus, DOE is interested in information on whether it is common industry practice to test dimming metal halide ballasts at 100 percent light output.

Issue A.5 DOE requests comment on whether it is common industry practice to test metal halide dimming ballasts at 100 percent light output.

c. Standby Mode Test Method

As required by EPCA, the 2010 MHLF TP final rule established a test method for measuring standby mode power. (42 U.S.C. 6295(gg)(2)(A)); 75 FR 10959-10961 (March 9, 2010). DOE developed the standby mode test method for metal halide ballasts to be consistent with the industry standard International Electrotechnical Commission (IEC) 62301: 2005, “Household electrical appliances—Measurement of standby power” (first edition, June 2005), but also referenced language and methodologies presented in ANSI C82.6-2005. 75 FR 10951 (March 9, 2010). As such, the 2010 MHLF TP final rule adopted test procedure provisions for measuring standby power that include the following steps: (1) A signal is sent to the ballast instructing it to reduce light output to zero percent; (2) the main input power to the ballast is measured; and (3) the power from the control signal path is measured in one of three ways, depending on how the signal from the control system is delivered to the ballast. 75 FR 10959-10960 (March 9, 2010). DOE is considering the implications of incorporating by reference the most recent version of industry standard IEC 62301 (IEC 62301: 2011) “Household electrical appliances—Measurement of standby power” (second edition, January 2011) in an amended test method for measuring standby power.⁷ DOE notes that this change, if it were made, would be consistent with the requirements of EPCA (42 U.S.C. 6295(gg)(2)(A)), as well as the standby mode test method for other lighting products.

⁷ Published January 27, 2011.

Issue A.6 DOE requests comment on the potential impact of incorporating by reference IEC 62301: 2011 in its standby mode test method for MHLFs.

Issue A.7 DOE requests comment on the availability of MHLFs that can operate in standby mode and, if they exist, their power consumption in standby mode.

d. High-Frequency Electronic Ballasts

As discussed in section II.B.1, the current test procedure incorporates by reference ANSI C82.6-2005 for testing both electronic and magnetic metal halide ballasts. However, neither ANSI C82.6-2005 nor the revised 2015 version provide a method specifically for testing high-frequency electronic (HFE) ballasts. A HFE metal halide ballast is defined by DOE as an electronic ballast that operates a lamp at an output frequency of 1000 Hz or greater. 10 CFR 431.322. In the 2013 MHLF energy conservation standards notice of proposed rulemaking, DOE considered adopting procedures for testing HFE ballasts based on the instrumentation used for testing electronic fluorescent lamp ballasts. 78 FR 51464, 51480-51481 (August 20, 2013). However, in the 2014 MHLF ECS final rule, DOE declined to amend the test procedure to include a procedure for HFE ballasts due to the lack of industry specifications for reference lamps to be paired with the ballasts during testing and the lack of a complete test method specific to HFE ballasts. 79 FR 7758 (February 10, 2014).

Subsequently, an ANSI standard for HFE metal halide ballasts titled ANSI C82.17-2017, “High Frequency (HF) Electronic Ballasts for Metal Halide Lamps,” (ANSI C82.17-2017) was recently published on August 11, 2017.⁸ ANSI C82.17-2017 provides specifications for and operating characteristics of HFE metal halide ballasts with sinusoidal lamp operating current frequencies above 40 kilohertz (kHz). ANSI C82.17-2017 also states in section 5.1 that “all measurements necessary to determine compliance with the ballast performance requirements of this standard shall be made in accordance with ANSI C82.6.” Thus, based on DOE's initial review of the newly published standard, DOE believes that ANSI C82.17-2017 could be used for ballast operating conditions for HFE ballasts and that ANSI C82.6-2015 could be used as the guide for measurement of HFE ballasts.

⁸ Approved May 18, 2017.

Issue A.8 DOE requests comment on the potential impact of incorporating by reference ANSI C82.17-2017 in the Federal test procedure. Specifically, DOE requests comment on whether newly published ANSI C82.17-2017 provides a repeatable and reproducible method when paired with ANSI C82.6-2015 for the testing of all HFE metal halide ballasts as defined by DOE.

Issue A.9 DOE requests comment on whether manufacturers and laboratories test HFE metal halide ballasts using the same instrumentation as electronic fluorescent lamp ballasts.

C. Other Test Procedure Topics

In addition to the issues identified earlier in this document, DOE welcomes comment on any other aspect of the existing test procedure for MHLFs not already addressed by the specific areas identified in this document. DOE particularly seeks information that would assist DOE in assuring that the test procedure accurately reflects the energy use of the products during a representative average use cycle, and information that would improve the repeatability and reproducibility of the test procedure. DOE also requests information that would help DOE create a procedure that would limit manufacturer test burden through streamlining or simplifying testing requirements. Comments regarding the repeatability and reproducibility are also welcome.

DOE also requests feedback on any potential amendments to the existing test procedure that could be considered to address impacts on manufacturers, including small businesses. DOE also seeks comment on the degree to which the Federal test procedure should consider and be harmonized with the most recent relevant industry standards for MHLFs, and whether there are any changes to the Federal test procedure that would provide additional benefits to the public.

DOE also requests comment on the benefits and burdens of adopting any industry/voluntary consensus-based or other appropriate test procedure, without modification. One topic for consideration, for example, is the specification of input voltage and stabilization criteria for ballasts of high intensity discharge lamps beyond what is required by ANSI C82.6. Another topic for consideration is the clarification of testing direction pertaining to the types of metal halide lamps to pair with metal halide ballasts under test, or control devices to be used, during standby mode testing beyond the requirements of IEC 62301: 2011. DOE requests comment on whether the addition of these types of requirements are worth the additional burden on manufacturers.

Additionally, DOE requests comment on whether the existing test procedure limits a manufacturer's ability to provide additional MHLF features to customers. DOE particularly seeks information on how the test procedure could be amended to reduce the cost of new or additional features, and make it more likely that such features are included in MHLFs.

III. Submission of Comments

DOE invites all interested parties to submit in writing, by the date listed in the DATES section of this notice, comments and information on matters addressed in this notice and on other matters relevant to DOE's consideration of an amended test procedure for MHLFs. These comments and information will aid in the development of a test procedure NOPR for MHLFs if DOE determines that an amended test procedure may be appropriate for this equipment.

Submitting comments via http://www.regulations.gov. The http://www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to http://www.regulations.gov information for which disclosure is restricted by statute, such as trade secrets and commercial or financial information (hereinafter referred to as Confidential Business Information (CBI)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery, or mail. Comments and documents submitted via email, hand delivery, or mail also will be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via mail or hand delivery, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery two well-marked copies: One copy of the document marked confidential including all the information believed to be confidential, and one copy of the document marked “non-confidential” with the information believed to be confidential deleted. Submit these documents via email or on a CD, if feasible. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

It is DOE's policy that all comments may be included in the public docket, without change and as received, including any personal information provided in the comments (except information deemed to be exempt from public disclosure).

DOE considers public participation to be a very important part of the process for developing test procedures and energy conservation standards. DOE actively encourages the participation and interaction of the public during the comment period in each stage of this process. Interactions with and between members of the public provide a balanced discussion of the issues and assist DOE in the process. Anyone who wishes to be added to the DOE mailing list to receive future notices and information about this process should contact Appliance and Equipment Standards Program staff at (202) 287-1445 or via email at ApplianceStandardsQuestions@ee.doe.gov.

Issued in Washington, DC, on May 17, 2018.
Kathleen B. Hogan,
Deputy Assistant Secretary for Energy Efficiency, Energy Efficiency and Renewable Energy.

[FR Doc. 2018-11547 Filed 5-29-18; 8:45 am]

BILLING CODE 6450-01-P